ENVIRONMENTAL PROTECTION AGENCY

[FRL-7933-5]

Science Advisory Board Staff Office; Notification of an Upcoming Teleconference and Face-to-Face Meeting of the Polychlorinated Biphenyl—Artificial Reef Risk Assessment (PCB-ARRA) Consultative Panel of the EPA Science Advisory Board (SAB)

AGENCY: Environmental Protection Agency (EPA).

ACTION: Notice.

SUMMARY: The EPA Science Advisory Board (SAB) Staff Office announces a public teleconference and face-to-face meeting of the Polychlorinated Biphenyl—Artificial Reef Risk Assessment (PCB-ARRA) Consultative Panel .

DATES: A public teleconference of the Polychlorinated Biphenyl—Artificial Reef Risk Assessment (PCB-ARRA) Consultative Panel will be held on July 22, 2005 from 2 p.m. to 5 p.m. Eastern time. The face-to-face meeting will be held on August 1, 2005 from 9 a.m. to 5 p.m. eastern time and will continue on August 2, 2005 from 8:30 a.m. to 1 p.m. eastern time.

ADDRESSES: The public teleconference will take place via telephone only. The public face-to-face meeting of the PCB-ARRA Consultative Panel will be held at the SAB Conference Center located at the Woodies Building, 1025 F Street, NW., Room 3705, Washington, DC 20004.

FOR FURTHER INFORMATION CONTACT: Members of the public who wish to obtain the call-in number and access code to participate in the teleconference may contact Dr. Sue Shallal, EPA Science Advisory Board Staff (1400F), U.S. EPA, 1200 Pennsylvania Ave., NW., Washington, DC 20460; telephone/voice mail: (202) 343-9977 or via e-mail at shallal.suhair@epa.gov. Technical Contact: For questions and information concerning the documents being reviewed, please contact Craig Brown at (404) 562-8990 or brown.craig@epa.gov.

SUPPLEMENTARY INFORMATION: Summary: EPA's Region 4 and Office of Prevention, Pesticides and Toxic Substances (OPPTS) have requested that the EPA Science Advisory Board (SAB) conduct a Consultation followed by an Advisory on the human health and ecological risk assessments prepared and submitted by the U.S. Navy. The purpose of this upcoming teleconference is for the PCB-ARRA Consultative Panel to receive a briefing on the document to be reviewed and to clarify the charge to the panel. A meeting agenda and background information will be posted on the SAB Web site (http://www.epa.gov/sab/) prior to the meeting.

The SAB was established by 42 U.S.C. 4365 to provide independent scientific and technical advice, consultation, and recommendations to the EPA Administrator on the technical basis for Agency positions and regulations. A SAB panel composed of current members will conduct the consultation. The purpose of a consultation is to provide non-consensus, oral advice on the preliminary assessment. Following the consultation, the SAB will conduct an advisory to provide consensus written advice on the U.S. Navy's revised assessment. The advisory will be conducted by a panel consisting of current SAB members and additional outside experts. These panels will comply with the provisions of the Federal Advisory Committee Act (FACA) and all appropriate SAB procedural policies. As such, all public meetings will be announced in the Federal Register at least 15 days prior to their scheduled times.

Background: The U.S. Navy and the State of Florida are planning to deploy the ex-Oriskany, a World War II era aircraft carrier, as an artificial reef in the Gulf of Mexico. In accordance with the Toxic Substances Control Act (TSCA) and its Federal PCB regulations (40 CFR part 761), the U.S. Navy has applied for and must obtain a risk-based PCB disposal approval prior to sinking the vessel with non-liquid PCBs onboard. The EPA may approve such an application if it finds the disposal action will not pose an unreasonable risk of injury to human health or the environment. To evaluate the potential transfer of non-liquid PCBs to the marine environment and the subsequent risk that they might pose to human and ecological receptors using the artificial reef, the Navy performed leaching studies of different on-board PCB containing materials followed by fate and transport modeling of the leaching results to evaluate how released chemicals might behave in the near-reef marine environment. The U.S. Navy has also developed a fate and transport model known as the Prospective Risk Assessment Model (PRAM). EPA Region 4 has requested that the SAB conduct a consultation followed by an advisory on the U.S. Navy's assessment of potential human health and environmental risks from PCBs released from the ex-Oriskany following deployment as an artificial reef. The focus of the SAB consultation and advisory includes the leaching studies, the PRAM, and characterization of potential risks.

Procedures for Providing Public Comment: The EPA SAB Staff Office will accept written public comments of any length for the SAB Panel's consideration, and accommodate oral public comments whenever possible. The EPA SAB Staff Office expects that public statements presented at this meeting will not repeat previously submitted oral or written statements to this Panel. Oral Comments: Requests to provide oral comments must be in writing (e-mail, fax or mail) and received by Dr. Shallal no later than five business days prior to the teleconference or meeting to reserve time on the meeting agenda. For teleconferences, opportunities for oral comment will usually be limited to no more than three minutes per speaker or organization and no more than fifteen minutes total. Written Comments: Written comments should be received in the SAB Staff Office at least five business days prior to the meeting date so that the comments may be made available to the committee for their consideration. Comments should be supplied to the DFO at the address/contact information noted above in the following formats: one hard copy with original signature and one electronic copy via e-mail (acceptable file format: Adobe Acrobat, WordPerfect, Word, or Rich Text files (in IBM-PC/Windows 98/2000/XP format).

Dated: June 28, 2005.
Anthony F. Maciorowski,
Acting Director, EPA Science Advisory Board Staff Office.

[FR Doc. 05-13278 Filed 7-5-05; 8:45 am]

BILLING CODE 6560-50-P